DEPARTMENT OF THE INTERIOR

Fish and Wildlife Service

50 CFR Part 17

Endangered and Threatened Wildlife and Plants; 90-Day Finding on a Petition To List Usnea longissima in California as Threatened or Endangered

AGENCY: Fish and Wildlife Service, Interior.

ACTION: Notice of 90-day petition finding.

SUMMARY: We, the U.S. Fish and Wildlife Service (Service), announce a 90-day finding on a petition to list Usnea longissima (a lichen) in California as threatened or endangered under the Endangered Species Act of 1973, as amended (Act). Based on our review and evaluation, we find that there is not substantial scientific or commercial information to demonstrate that the California populations of U. longissima are a discrete and listable entity under the Act. Therefore, we have determined that the petition does not provide substantial information to indicate that the petitioned action may be warranted, and we will not be initiating a further status review of this species in response to this petition. We ask the public to submit to us any new information that becomes available concerning the status of U. longissima or threats to it.

DATES: The finding announced in this document was made on September 28, 2006.

ADDRESSES: The complete supporting file for this finding is available for public inspection, by appointment, during normal business hours at the Arcata Fish and Wildlife Office, U.S. Fish and Wildlife Service, 1655 Heindon Road, Arcata, CA 95521. New information, data, or questions concerning Usnea longissima may be submitted to us at any time at the above address.

FOR FURTHER INFORMATION CONTACT: Mike Long, Arcata Fish and Wildlife Office (see ADDRESSES), by telephone at 707-822-7201, or by facsimile to 707-822-8411. Persons who use a telecommunications device for the deaf (TDD) may call the Federal Information Relay Service (FIRS) at 800-877-8339, 24 hours a day, 7 days a week.

SUPPLEMENTARY INFORMATION:

Background

Section 4(b)(3)(A) of the Act (16 U.S.C. 1531 et seq.) requires that we make a finding on whether a petition to list, delist, or reclassify a species presents substantial scientific or commercial information to indicate that the petitioned action may be warranted. We are to base this finding on information provided in the petition. To the maximum extent practicable, we are to make this finding within 90 days of our receipt of the petition and publish our notice of this finding promptly in the Federal Register.

Our standard for substantial information within the Code of Federal Regulations (CFR) with regard to a 90-day petition finding is “that amount of information that would lead a reasonable person to believe that the measure proposed in the petition may be warranted” (50 CFR 424.14(b)). If we find that substantial information was presented, we are required to promptly commence a review of the status of the species.

In making this finding, we relied on information provided by the petitioner and our evaluation of that information in accordance with 50 CFR 424.14(b). Our process of coming to a 90-day finding under section 4(b)(3)(A) of the Act and § 424.14(b) of our regulations is limited to a determination of whether the information in the petition meets the “substantial information” threshold. The factors for listing, delisting, or reclassifying a species are described in 50 CFR 424.11.

We do not conduct additional research at this point, nor do we subject the petition to rigorous critical review. However, we do check the petitioners sources and characterizations of information to determine that the sources support the characterizations, and that the sources are published and peer-reviewed, based on accepted scientific principles, or otherwise constitute scientific data.

Previous Federal Action

On April 16, 2000, we received a petition, dated March 27, 2000, from Rudolf W. Becking (the petitioner) requesting that we list Usnea longissima in California.

On April 27, 2005, we sent a letter to the petitioner stating that we had assimilated considerable information on the distribution of Usnea longissima and were requesting that the petitioner contact the Arcata Fish Wildlife Office to discuss the petition and the need to list the species. We received no response to our April 27, 2005, letter from the petitioner.

Species Information

The genus Usnea was first described in 1742 (Dillenius 1742). In 1824, it was placed in the Usneaceae family, and the species Usnea longissima was described (Articus 2004, p. 3). Currently, the genus is classified as a member of the Parmeliaceae family. U. longissima is easily distinguishable from other members of the genus by its long, string-like growth habit and white central cord (Pojar and Makinnon 1994, p. 502).

Usnea longissima, commonly called Methuselah's Beard or Oldman's Beard, is a lichen that resembles hanging strands of pale yellowish-green hair. A typical strand of lichen can be from 15 centimeters (6 inches) to 6 meters (19 feet) long. Each strand consists of a single main elastic strand with numerous short branchlets (Pojar and Makinnon 1994, p. 503).

Usnea longissima is typically found draped over tree branches and shrubs in well-ventilated, semi-open canopy forests. This species is not encountered frequently; however, in areas where populations are present, they are abundant. The healthiest populations of U. longissima are found in old-growth forests (Pojar and Makinnon 1994, p. 503).

Usnea longissima is an epiphytic (a plant that grows upon or attached to another living plant) lichen consisting of a symbiotic relationship between fungal and algal organisms. The fungal part of the lichen (the mycobiont) forms the structure of the lichen, giving it shape and a medium for water absorption. The fungal portion also provides the lichen with nutrients. The algal component (the photobiont) is responsible for providing carbohydrates to the fungus through the process of photosynthesis (Vitt et al. 1988, pp. 156-175, 250-251).

In general, lichens reproduce by producing small propagules (seed-like parts of the plant) or by dispersal of fragments from the parent plant. Most of the reproduction occurs by fragmentation. Small pieces of lichen that contain both the fungal and algal components fall off the parent lichen and become established somewhere else in the canopy.

Population Distribution and Trends

Usnea longissima was once a common circumpolar boreal conifer forest species (Ahti 1977, pp. 145-181). Currently, U. longissima has been extirpated from much of its range in western Europe (Bennett 1995, pp. 194-196), with the largest remaining European populations in Scandinavia, especially in Norway (Halonen 2000, p 15). The Pacific Northwest remains a relative stronghold for the species (Keon 2001, p. 6). However, U. longissima is also known to occur in parts of eastern Canada and in the northeastern United States (Halonen 2000, p. 15).

The information presented in the petition suggests that Usnea longissima populations are facing increased pressure in California from several factors, including habitat loss and commercial timber harvesting. In the Coast Range of the Pacific Northwest, U. longissima seems more limited in occurrences by its inability to easily disperse than by the possible lack of suitable habitat (Keon 2001, p. 92-94). U. longissima disperses mostly from small pieces fragmenting from the main plant and being carried off in the wind, by an animal, or by simply falling onto another plant (Pojar and Makinnon 1994, p. 503). This lichen has a short dispersal distance, usually less than 5 meters (16 feet) (McCune and Geiser 1997, pp. 301, 307, and 353). Therefore, U. longissima recolonization of second growth forests may be more dependent upon proximity to existing U. longissima populations than on other habitat characteristics, such as tree age (Keon and Muir 2002, pp. 233-242).

Review of the Petition

The petition states that Usnea longissima has been extirpated from much of its former range in western Europe primarily due to intensive even-aged logging and acid rain, and that it is being extirpated in California through habitat disturbance. The petition contends that U. longissima is highly dependent on large, mature trees for habitat and that logging of old-growth forest is leading to its extirpation. Our review of the information present in the petition suggests that air quality has also contributed to the extirpation of the Usnea longissima in some parts of Europe. The petition requests that the California populations of U. longissima be listed under the Act as endangered or threatened.

However, the petition contains no information about whether western Europe or California is a significant portion of the species' range. Therefore, the petition does not provide substantial information that areas in western Europe or California constitute a significant portion of the species' global range. The petition also does not request that we list the species across its range. To list the species in California alone, as requested by the petitioner, we would have to determine that the occurrences in California constitute a Distinct Population Segment. The Act restricts the use of Distinct Population Segments to vertebrate animal species (16 U.S.C. 1532(16); 61 FR 4722; February 7, 1996). U. longissima is not a vertebrate animal, and thus we have no authority to list a distinct population segment of this species. Therefore, the California populations of U. longissima are not considered to be a listable entity pursuant to the Act and as a result are ineligible for listing.

Regarding the petitioner's contention that U. longissima is dependent on large mature trees, we note that studies addressing Usnea longissima distributions in coastal Oregon forests (Keon 2001, pp. 92-94; Keon and Muir 2002, pp. 233-242) and reviews of U. longissima occurrences on Pacific Lumber Company (PALCO) lands in northern coastal California (Leppig 2003, pp. 1-3) suggest that U. longissima occurrences may be more dependent on the species' ability to disperse than on the age of the host trees. Leppig's review (2003, p. 2) of U. longissima on PALCO lands determined that it occurs on all tree species present in the stands and is relatively abundant in younger, 20- to 30-year-old forest stands. Keon and Muir (2002, pp. 233-242) found that U. longissima transplants in young stands grew hardier than transplants in an old growth setting. Additionally, our reviews of PALCO timber harvest plans suggest that U. longissima is relatively abundant in watersheds that have been previously harvested (Leppig 2003, p. 2), suggesting that U. longissima populations are resilient. In summary, although Pojar and Makinnon (1994, p. 503) found that the healthiest populations of U. longissima are in old-growth forests, this slow-growing lichen is not restricted to such an age class. In addition, contrary to the implications in the petition, where the species has been studied in the Pacific Northwest, it occurs with relative abundance in younger 20- to 30-year-old forest stands (Leppig 2003, pp. 1-3) and in watersheds that have undergone forest harvests (Leppig 2003, p. 2).

Finding

We reviewed the petition to list Usnea longissima in California and the literature cited in the petition, and we evaluated that information in relation to other pertinent literature and information available to us. After this review and evaluation, we find that there is not substantial scientific or commercial information to demonstrate that the California populations of U. longissima are a listable entity, and as a result, we have determined that the petitioned action is not warranted. Although we will not be commencing a status review in response to this petition, we encourage interested parties to continue to gather data that will assist with the conservation of the species.

References Cited

A complete list of all references cited herein is available upon request from the Arcata Fish and Wildlife Office (see ADDRESSES).

Author

The primary authors of this notice are the staff of the Arcata Fish and Wildlife Office (see ADDRESSES).

Authority: The authority for this action is the Endangered Species Act of 1973, as amended (16 U.S.C. 1531 et seq.).

Dated: September 20, 2006.
Marshall P. Jones, Jr.,
Acting Director, Fish and Wildlife Service.

[FR Doc. E6-15876 Filed 9-27-06; 8:45 am]

BILLING CODE 4310-55-P